DEPARTMENT OF AGRICULTURE

Forest Service

Comprehensive River Management Plan for Nine Wild and Scenic Rivers on Mt. Hood National Forest, Forest Service, and Northwest Oregon District, Bureau of Land Management, Clackamas, Multnomah, Wasco and Hood River Counties, Oregon

AGENCY: Forest Service, Agriculture (USDA) and Bureau of Land Management, Department of Interior.

ACTION: Notice of availability.

SUMMARY: In accordance with Section 3(d)(1) of the Wild and Scenic Rivers Act, the Forest Service, U.S. Department of Agriculture, and Bureau of Land Management (BLM) announce the completion and availability of a comprehensive river management plan for nine wild and scenic rivers (CRMP for Nine Wild and Scenic Rivers), including Collawash River, Eagle Creek, East Fork Hood River, Fifteenmile Creek, Fish Creek, Middle Fork Hood River, South Fork Clackamas River, South Fork Roaring River, and Zigzag River. Approximately 0.6 miles of South Fork Clackamas River is managed by the BLM; the remaining portion of South Fork Clackamas River and all other eight wild and scenic rivers in this plan are managed by the Forest Service. On January 10, 2022, Mt. Hood National Forest Forest Supervisor, Meta Loftsgaarden, signed a decision notice to adopt the CRMP for Nine Wild and Scenic Rivers on National Forest System lands. Also on January 13, 2022, the BLM Northwest Oregon District's Cascades Field Office Manager John Huston signed a decision to adopt this CRMP on the BLM-administered lands. The CRMP for Nine Wild and Scenic Rivers addresses resource protection, development of lands and facilities, user capacities, and other management practices necessary or desirable to achieve the purposes of the Wild and Scenic Rivers Act. This CRMP was prepared after consultation with Tribal, State and local governments and the interested public. An environmental assessment (EA) was prepared as part of the CRMP development. This EA has been prepared in compliance with the National Environmental Policy Act and other relevant federal laws and regulations. The EA discloses the direct, indirect, and cumulative environmental effects that would result from adopting the CRMP.

ADDRESSES: The CRMP, EA, and decision notices are available for review at: https://www.fs.usda.gov/project/?project=54674; or, https://eplanning.blm.gov/eplanning-ui/project/124163/570. Also, the documents are available at the following offices: Mt Hood National Forest Supervisor's Office, 16400 Champion Way, Sandy, OR 97055; and, BLM Northwest Oregon District Office, 1717 Fabry Road SE, Salem, OR 97306.

FOR FURTHER INFORMATION CONTACT: Information may be obtained by contacting Michelle Lombardo, Forest Environmental Coordinator, Mt. Hood National Forest, 16400 Champion Way, Sandy, OR 97055, by phone at 971-303-2083, or at michelle.lombardo@usda.gov.

Individuals who use telecommunication devices for the deaf and hard of hearing (TDD) may call the Federal Relay Service (FRS) at 1-800-877-8339, 24 hours a day, every day of the year, including holidays.

Dated: February 9, 2022.
Sandra Watts,
Associate Deputy Chief, National Forest System.

[FR Doc. 2022-03187 Filed 2-14-22; 8:45 am]

BILLING CODE 3411-15-P